DEPARTMENT OF DEFENSE

Department of the Navy

Notice of Intent To Prepare an Environmental Impact Statement for the Proposed Acquisition of Lands and Establishment of Airspace Contiguous to the Marine Corps Air Ground Combat Center, Twentynine Palms, CA; Correction

AGENCY: Department of the Navy, DoD.

ACTION: Notice; correction.

SUMMARY: The Department of the Navy published a document in the Federal Register on October 30, 2008, announcing its intent to prepare an Environmental Impact Statement for the Proposed Acquisition of Lands and Establishment of Airspace Contiguous to the Marine Corps Air Ground Combat Center, Twentynine Palms, California. The original publication contained incorrect dates.

FOR FURTHER INFORMATION CONTACT: Project Manager (Attn: Mr. Joseph Ross), Box 788104, Bldg. 1554, Rm. 138, MAGTFTC/MCAGCC, Twentynine Palms, CA 92278-8104; phone: 760-830-3764; e-mail: SMBPLMSWEBPAO@usmc.mil.

Correction

1. In the Federal Register of October 30, 2008, in FR Doc. E8-25845, on page 64604, in the second column, correct the DATES caption to read as follows:

DATES: All written, oral, or telephonic comments regarding the scope of issues that the Department of the Navy should consider during EIS preparation must be received before January 31, 2009. Three public scoping meetings have been scheduled and the meeting locations are as follows:

1. December 3, 2008, 5 p.m. to 9 p.m., Twentynine Palms, CA;

2. December 4, 2008, 5 p.m. to 9 p.m., Victorville, CA;

3. December 5, 2008, 5 p.m. to 9 p.m., Ontario, CA.

Dated: November 14, 2008.
T.M. Cruz,
Lieutenant Commander, Judge Advocate General's Corps, U.S. Navy, Federal Register Liaison Officer.

[FR Doc. E8-27693 Filed 11-20-08; 8:45 am]

BILLING CODE 3810-FF-P